NATIONAL CREDIT UNION ADMINISTRATION

Agency Information Collection Activities: Proposed Collections

AGENCY: National Credit Union Administration (NCUA).

ACTION: Notice and request for comment.

SUMMARY: The National Credit Union Administration (NCUA), as part of a continuing effort to reduce paperwork and respondent burden, invites the general public and other Federal agencies to comment on the following extensions of a currently approved collection, as required by the Paperwork Reduction Act of 1995.

DATES: Written comments should be received on or before December 27, 2022 to be assured consideration.

ADDRESSES: Interested persons are invited to submit written comments on the information collection to Dawn Wolfgang, National Credit Union Administration, 1775 Duke Street, Suite 6032, Alexandria, Virginia 22314; email at PRAComments@NCUA.gov. Given the limited in-house staff because of the COVID-19 pandemic, email comments are preferred.

FOR FURTHER INFORMATION CONTACT: Address requests for additional information to Dawn Wolfgang at the address above or telephone 703-548-2279.

SUPPLEMENTARY INFORMATION: OMB Number: 3133-0032.

Type of Review: Extension currently approved collection.

Title: Records Preservation, 12 CFR part 749.

Abstract: Part 749 of the NCUA regulations directs each credit union to have a vital records preservation program that includes procedures for maintaining duplicate vital records at a location far enough from the credit union's offices to avoid the simultaneous loss of both sets of records in the event of disaster. Part 749 also requires the program be in writing and include emergency contact information for employees, officials, regulatory offices, and vendors used to support vital records.

Affected Public: Private Sector: Not-for-profit institutions.

Estimated No. of Respondents: 4,853.

Estimated No. of Responses per Respondent: 12.

Estimated Total Annual Responses: 58,236.

Estimated Hours per Response: 2.

Estimated Total Annual Burden Hours: 116,472.

Reason for Change: The number of respondents have been updated to reflect the current number of FICUs of the June call report to 4,853.

OMB Number: 3133-0052.

Title: Federal Credit Union Bylaws, Appendix A to Part 701.

Type of Review: Extension of a currently approved collection.

Abstract: The FCU Act and Bylaws require new and current FCU to prepare and maintain documents, such as organization certificate, charter, notices, meeting minutes, and election results, and notify the NCUA Board of certain changes. FCU's use the information they collect and maintain pursuant to their bylaws in their operations and to provide services to members. NCUA uses the information both to regulate the safety and soundness of FCU and protect the National Credit Union Share Insurance Fund.

Affected Public: Private Sector: Not-for-profit institutions.

Estimated No. of Respondents: 3,235.

Estimated No. of Responses per Respondent: 355.

Estimated Total Annual Responses: 1,147,877.

Estimated Burden Hours per Response: 0.35.

Estimated Total Annual Burden Hours: 399,298.

Reason for change: Adjustments have been made to remove the one-time burden for the initial posting of their bylaws by FCU's to their website, for a reduction of 3,235 burden hours.

OMB Number: 3133-0114.

Title: Payments on Shares by Public Units and Nonmembers, 12 CFR 701.32.

Type of Review: Extension of a currently approved collection.

Abstract: Section 107(6) of the Federal Credit Union Act (Act) and § 701.32 of the NCUA Rules and Regulations (12 CFR part 701) may receive from public units and political subdivisions and nonmember credit unions, payments on shares. Limitations on nonmember and public unit deposits in federal credit unions (FCUs) is 50 percent of the difference of paid-in and unimpaired capital and surplus and any public unit and nonmember shares, as measured at the time of acceptance of each public unit or nonmember share. This collection of information is necessary to protect the National Credit Union Share Insurance Fund (NCUSIF).

Affected Public: Private Sector: Not-for-profit institutions.

Estimated No. of Respondents: 50.

Estimated No. of Responses per Respondent: 1.

Estimated Total Annual Responses: 50.

Estimated Burden Hours per Response: 2.

Estimated Total Annual Burden Hours: 100.

Request for Comments: Comments submitted in response to this notice will be summarized and included in the request for Office of Management and Budget approval. All comments will become a matter of public record. The public is invited to submit comments concerning: (a) whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Melane Conyers-Ausbrooks, Secretary of the Board, the National Credit Union Administration, on October 20, 2022.

Dated: October 21, 2022.
Dawn D. Wolfgang,
NCUA PRA Clearance Officer.

[FR Doc. 2022-23267 Filed 10-25-22; 8:45 am]

BILLING CODE 7535-01-P